ENVIRONMENTAL PROTECTION AGENCY

[EPA-HQ-OW-2006-0408; FRL-9989-18-OEI]

Information Collection Request Submitted to OMB for Review and Approval; Comment Request; EPA's WaterSense Program (Renewal)

AGENCY: Environmental Protection Agency (EPA).

ACTION: Notice.

SUMMARY: The Environmental Protection Agency (EPA) has submitted an information collection request (ICR), EPA's WaterSense Program (EPA ICR No. 2233.07, OMB Control No. 2040-0272), to the Office of Management and Budget (OMB) for review and approval in accordance with the Paperwork Reduction Act. This is a proposed extension of the ICR, which is currently approved through March 31, 2019. Public comments were previously requested via the Federal Register on August 28, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 22, 2019.

ADDRESSES: Submit your comments, referencing Docket ID Number EPA-HQ-OW-2006-0408, to (1) EPA online using www.regulations.gov (our preferred method), by email to OW-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Tara O'Hare, WaterSense Branch, Water Infrastructure Division, Office of Wastewater Management, Office of Water, (Mail Code 4204M), Environmental Protection Agency, 1200 Pennsylvania Ave. NW, Washington, DC 20460; telephone number: 202-564-8836; email address: ohare.tara@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: WaterSense is a voluntary program designed to create self-sustaining markets for water-efficient products and services via a common label. The program provides incentives for manufacturers and builders to design, produce, and market water-efficient products and homes. The program also encourages consumers and commercial and institutional purchasers of water-using products and systems to choose water-efficient products and use water-efficient practices. As part of strategic planning efforts, EPA encourages programs to develop meaningful performance measures, set ambitious targets, and link budget expenditures to results. Data collected under this ICR will assist WaterSense in demonstrating results and carrying out evaluation efforts to ensure continual program improvement. In addition, the data will help EPA estimate water and energy savings and inform future product categories and specifications. All shipment and sales data submitted by WaterSense manufacturer and retailer/distributor partners are collected as confidential business information (CBI) using the procedures outlined in the WaterSense CBI security plan under the Clean Water Act.

Form Numbers: *Forms not yet finalized in italics.

Partnership Agreement

• Builders 6100-19

• Licensed Certification Providers 6100-20

• Manufacturers 6100-13

• Professional Certifying Organizations 6100-07

• Promotional partners 6100-06

• Retailers/distributors 6100-12

Application for Professional Certifying Organization Approval

• Professional Certifying Organizations 6100-X3

Annual Reporting Form

• Builders 6100-09

• Professional Certifying Organizations 6100-09

• Promotional partners 6100-09

Annual Reporting Form—Online and Hard-copy Confidential Business Information (CBI) Forms

• Plumbing Manufacturers 6100-09

• Non-plumbing Manufacturers 6100-09

• Retailers/Distributors 6100-09

Provider Quarterly Reporting Form

• Licensed Certification Providers 6100-09

Award Application Form

• Builders 6100-17

• Licensed Certification Providers 6100-17

• Manufacturers 6100-17

• Professional Certifying Organizations 6100-17

• Promotional Partners 6100-17

• Retailers/Distributors 6100-17

Consumer Awareness Survey

• Survey form 6100-X2

Respondents/affected entities: WaterSense partners and participants in the consumer survey, which include product manufacturers; professional certifying organizations; retailers; distributors; utilities; federal, state, and local governments; home builders; licensed certification providers; and non-governmental organizations (NGOs).

Respondent's obligation to respond: Voluntary.

Estimated number of respondents: 2,649.

Frequency of response: Once, annually, quarterly, occasionally.

Total estimated burden: 3,212 hours (per year). Burden is defined at 5 CFR 1320.03(b).

Total estimated cost: $293,189 (per year), includes $905 of annualized capital or operation & maintenance costs.

Changes in the Estimates: There is a decrease of 898 hours in the total estimated respondent burden compared with the ICR currently approved by OMB. This decrease is due to changes in program requirements including using online forms for all non-CBI related data, discontinuing the individual irrigation partner category, and simplifying the quarterly provider reporting requirements, which have reduced operation & maintenance costs and lowered the estimated burden. EPA also better understands how long it takes partners to complete program forms and has better historical data to project new partners/forms over the next three years.

Courtney Kerwin,
Director, Regulatory Support Division.

[FR Doc. 2019-05312 Filed 3-20-19; 8:45 am]

BILLING CODE 6560-50-P